DEPARTMENT OF HOUSING AND URBAN DEVELOPMENT

[Docket No. FR-6496-N-01]

Tribal Intergovernmental Advisory Committee Membership

AGENCY: Office of Assistant Secretary for Public and Indian Housing, HUD.

ACTION: Notice.

SUMMARY: This notice announces the list of Committee Members of HUD's Tribal Intergovernmental Advisory Committee (TIAC) starting in January 2025. The committee will perform several advisory functions while it considers HUD policies that affect Indian Country. HUD will publish a subsequent notice with details of any scheduled TIAC meeting.

FOR FURTHER INFORMATION CONTACT: Heidi J. Frechette, Deputy Assistant Secretary for Native American Programs, Office of Public and Indian Housing, Department of Housing and Urban Development, 451 Seventh Street SW, Room 4126, Washington, DC 20410, telephone number 202-401-7914 (this is not a toll-free number). HUD welcomes and is prepared to receive calls from individuals who are deaf or hard of hearing, as well as individuals with speech and communication disabilities. To learn more about how to make an accessible telephone call, please visit https://www.fcc.gov/consumers/guides/telecommunications-relay-service-trs.

SUPPLEMENTARY INFORMATION:

I. Background

On January 26, 2021, President Biden issued a Presidential Memorandum on Tribal Consultation and Strengthening Nation-to-Nation Relationships.¹ The memorandum directed all Federal agencies to take actions to strengthen their Tribal consultation policies and practices and to further the purposes of Executive Order 13175 (Consultation and Coordination With Indian Tribal Governments).

¹ Available at: https://www.whitehouse.gov/briefing-room/presidential-actions/2021/01/26/memorandum-on-tribal-consultation-and-strengthening-nation-to-nation-relationships/.

On November 15, 2021 (86 FR 63051), to enhance consultation and collaboration with Tribal governments, HUD published a notice in the Federal Register announcing its intention to establish its first Tribal advisory committee known as the “Tribal Intergovernmental Advisory Committee” (TIAC). The notice also solicited Tribal feedback on a proposed TIAC structure and its functions. On March 31, 2022 (87 FR 18807), HUD published a notice in the Federal Register that announced the final structure of the TIAC and requested the submission of Tribal nominations to the TIAC. HUD selected 15 members for its inaugural TIAC, beginning in January 2023.

On April 8, 2024 (89 FR 24484), HUD published a notice in the Federal Register requesting submission of Tribal nominations to the TIAC for two-year terms to begin in January 2025 (replacing eight positions whose terms were set to expire at the end of December 2024).

II. The Tribal Intergovernmental Advisory Committee

Today's notice announces the membership of the TIAC starting January 2025 (returning members as well as new members). The purpose of the TIAC is to further facilitate intergovernmental communication between HUD and Tribal leaders of federally recognized Tribes on all HUD programs, to make recommendations to HUD regarding current program regulations that may require revision, as well as suggest rulemaking methods to develop such changes, and to advise in the development of HUD's American Indian and Alaska Native (AI/AN) housing priorities. The function of TIAC is not to replace Tribal consultation, but rather to serve as a tool to help supplement it.

In making the selections for membership on the TIAC, HUD's goal was to establish a committee whose membership reflects a balanced representation of Indian tribes. In addition to the Tribal representatives on the committee, there will be several HUD representatives, each representing various program offices, on the committee.

HUD appreciates commenters who submitted names of Alternates. HUD is only announcing Committee Members in today's Notice. However, each Committee Member should have an eligible Alternate in queue in case the Committee Member is unable to attend a particular committee meeting. As a reminder, the Alternate must meet the same eligibility criteria required of the selected Committee Member, specifically, that they must be either a duly elected Tribal official or Tribal employee. The Alternate cannot be a Tribally Designated Housing Entity employee. In the absence of a Committee Member, the Alternate will have the same rights, responsibilities, duties, and functions as a Committee Member during meetings. Each Committee Member has the discretion to decide who will best represent them in their absence. A Committee Member unable to attend any session must inform HUD in writing with an original signature as to whom they have selected to represent them and will specify the term. HUD will review all Alternates before a meeting to confirm that they meet the eligibility criteria for Alternates specified by HUD.

The final list of members of the TIAC is as follows:

Tribal Members

Jamie Azure, Chairman, Turtle Mountain Band of Chippewa Indians, Belcourt, North Dakota.

Gary Batton, Chief, Choctaw Nation of Oklahoma, Durant, Oklahoma.

Kelly Cook, Executive Director, Office of Housing, Chickasaw Nation, Ada, Oklahoma.

Glenn Ellis, Jr., Council Member, Makah Indian Tribe of the Makah Indian Reservation, Neah Bay, Washington.

Denise Harvey, Council Member, Confederated Tribes of Grand Ronde Community of Oregon, Grand Ronde, Oregon.

Emily Boyd-Valandra, Councilmember, Rosebud Sioux Tribe of the Rosebud Indian Reservation, Rosebud, South Dakota.

Benjamin Herne, Tribal Sub-Chief, Saint Regis Mohawk Tribe, Akwesasne, New York.

Victoria Hobbs, Legislative Council Representative, Tohono O'odham Nation of Arizona, Sells, Arizona.

Ryman LeBeau, Chairman, Cheyenne River Sioux Tribe, Eagle Butte, South Dakota (at-large).

Patricia MacDonald, Council President, Healy Lake Village, Fairbanks, Alaska.

Jacqueline Pata, 1st Vice President, Central Council of Tlingit and Haida Indian Tribes of Alaska, Juneau, Alaska.

Teri Nutter, Council Member, Gulkana Village Council, Gakona, Alaska (at-large).

Charles Matthew Sisneros, Lieutenant Governor, Santa Clara Indian Pueblo, Espanola, New Mexico.

Bridgett Sorenson, Board of Director, Sault Ste. Marie Tribe of Chippewa Indians, Kincheloe, Michigan.

Kim Teehee, Director of Government Relations, Cherokee Nation, Tahlequah, Oklahoma (at-large).

HUD Representatives

Assistant Secretary, Office of Public and Indian Housing.

Assistant Secretary, Office of Policy, Development, and Research.

Assistant Secretary, Office of Fair Housing and Equal Opportunity.

Assistant Secretary, Office of Field Policy Management.

Assistant Secretary, Office of Housing.

Assistant Secretary, Government National Mortgage Association.

Assistant Secretary, Office of Community Planning and Development.

Gary Cooper,
Associate Deputy Assistant Secretary for Native American Programs, Office of Public and Indian Housing.

[FR Doc. 2024-25657 Filed 11-4-24; 8:45 am]

BILLING CODE 4210-67-P